DEPARTMENT OF THE INTERIOR

National Park Service

Chesapeake and Ohio Canal National Historical Park Advisory Commission; Notice of Public Meeting

AGENCY: Department of the Interior, National Park Service, Chesapeake and Ohio Canal National Historical Park.

ACTION: Notice of meeting.

SUMMARY: Notice is hereby given that a special meeting of the Chesapeake and Ohio Canal National Historical Park Advisory Commission (the Commission) will be held on Friday, May 19, 2006, at 10 a.m., at the Glen Echo Town Hall, 6106 Harvard Avenue, Glen Echo, Maryland.

The Commission will meet to consider the National Park Service Environmental Assessment evaluating the impacts of a proposal by Georgetown University to construct a boathouse for competitive rowing on the Georgetown Waterfront in Washington, DC (Environmental Assessment).

The meeting will be open to the public. Any person may file with the Commission a written statement concerning the matters to be discussed. Persons who wish to file a written statement or testify at the meeting or who want further information concerning the meeting may contact Superintendent Kevin Brandt at (301) 714-2201.

DATES: May 19, 2006.

ADDRESSES: Glen Echo Town Hall, 6106 Harvard Avenue, Glen Echo, Maryland 20812.

FOR FURTHER INFORMATION CONTACT: Superintendent Kevin Brandt, Superintendent, Chesapeake and Ohio Canal National Historical Park, 1850 Dual Highway, Suite 100, Hagerstown, Maryland 21740, telephone: (301) 714-2201.

SUPPLEMENTARY INFORMATION: The Commission was established by Public Law 91-664 to meet and consult with the Secretary of the Interior on general policies and specific matters related to the administration and development of the Chesapeake and Ohio Canal National Historic Park. Normally, notice of advisory committee meetings is published at least 15 calendars prior to the meeting date. However, due to: (1) The compelling need for the Commission to prepare and provide comments on the Environmental Assessment during the 45-day comment period; (2) the difficulty of finding a date suitable to all Commission members; and (3) the difficulty of finding a suitable meeting location, it was not possible to give 15 calendar days advance notice. A notice of this meeting was signed on April 25 and appeared in the Federal Register on May 10. This notice supplements that initial notice.

The members of the Commission are as follows:

Mrs. Sheila Rabb Weidenfeld, Chairperson.

Mr. Charles J. Weir.

Mr. Barry A. Passett.

Mr. Terry W. Hepburn.

Ms. JoAnn M. Spevacek.

Mrs. Mary E. Woodward.

Mrs. Donna Printz.

Mrs. Ferial S. Bishop.

Ms. Nancy C. Long.

Mrs. Jo Reynolds.

Dr. James H. Gilford.

Brother James Kirkpatrick.

Mr. George E. Lewis, Jr.

Mr. Charles D. McElrath.

Ms. Patricia Schooley.

Mr. Jack Reeder.

Minutes of the meeting will be available for public inspection six weeks after the meeting at Chesapeake and Ohio Canel National Historical Park Headquarters, 1850 Dual Highway, Suite 100, Hagerstown, Maryland 21740.

Dated: May 9, 2006.
Joseph M. Lawler,
Regional Director, National Capital Region.

[FR Doc. 06-4952 Filed 5-30-06; 8:45 am]

BILLING CODE 4310-6V-M